DEPARTMENT OF COMMERCE

International Trade Administration

[C-533-916, C-508-815, C-580-917]

Brass Rod From India, Israel, and the Republic of Korea: Initiation of Countervailing Duty Investigations

AGENCY: Enforcement and Compliance, International Trade Administration, Department of Commerce.

DATES: Applicable May 17, 2023.

FOR FURTHER INFORMATION CONTACT: Dusten Hom (India), Zachary Shaykin (Israel), and Jacob Saude (the Republic of Korea (Korea)), AD/CVD Operations, Offices I, IV, and VII, Enforcement and Compliance, International Trade Administration, U.S. Department of Commerce, 1401 Constitution Avenue NW, Washington, DC 20230; telephone: (202) 482-5075, (202) 482-2638, or (202) 482-0981, respectively.

SUPPLEMENTARY INFORMATION:

The Petitions

On April 27, 2023, the U.S. Department of Commerce (Commerce) received countervailing duty (CVD) petitions concerning imports of brass rod from India, Israel, and Korea filed in proper form on behalf of the American Brass Rod Fair Trade Coalition and its constituent members, Mueller Brass Co. and Wieland Chase LLC, U.S., producers of brass rod (collectively, the petitioners).¹ The CVD petitions were accompanied by antidumping duty (AD) petitions concerning imports of brass rod from Brazil, India, Israel, Mexico, South Africa, and Korea.²

¹ See Petitioners' Letter, “Brass Rod from Brazil, India, Israel, Mexico, South Africa, and South Korea: Antidumping and Countervailing Duty Petitions,” dated April 27, 2023 (Petitions).

² Id.

On May 2 and 10, 2023, Commerce requested supplemental information pertaining to certain aspects of the Petitions.³ On May 8 and 11, 2023, the petitioners filed timely responses to these requests for additional information.⁴

³ See Commerce's Letters, “Petition for the Imposition of Countervailing Duties on Imports of Brass Rod from Israel: Supplemental Questions,” dated May 2, 2023; “Petitions for the Imposition of Antidumping Duties on Imports of Brass Rod from Brazil, India, Israel, Mexico, the Republic of Korea, and South Africa and Countervailing Duties on Imports from India, Israel, and the Republic of Korea: Supplemental Questions,” dated May 2, 2023 (General Issues Supplemental Questionnaire); “Petition for the Imposition of Countervailing Duties on Imports of Countervailing Duties on Imports of Brass Rod from India: Supplemental Questions, dated May 2, 2023; and “Petitions for the Imposition of Antidumping Duties on Imports of Brass Rod from Brazil, India, Israel, the Republic of Korea, Mexico, and South Africa and Countervailing Duties on Imports from India, Israel, and the Republic of Korea: Supplemental Questions,” dated May 10, 2023.

⁴ See Petitioners' Letters, “Brass Rod from Brazil, India, Israel, Mexico, South Africa, and South Korea: Amendment of Petitions and Response to Commerce's Supplemental Questions,” dated May 8, 2023 (General Issues Supplement); and “Brass Rod from Brazil, India, Israel, Mexico, South Africa, and South Korea: Second Amendment of Petitions and Response to Commerce's Supplemental Questions,” dated May 11, 2023 (Scope Supplement).

In accordance with section 702(b)(1) of the Tariff Act of 1930, as amended (the Act), the petitioners allege that the Government of India (GOI), the Government of Israel (GISR), and the Government of Korea (GOK) (collectively, Governments) are providing countervailable subsidies, within the meaning of sections 701 and 771(5) of the Act, to producers of brass rod in India, Israel, and Korea, and that such imports are materially injuring, or threatening material injury to, the domestic industry producing brass rod in the United States. Consistent with section 702(b)(1) of the Act and 19 CFR 351.202(b), for those alleged programs on which we are initiating CVD investigations, the Petitions were accompanied by information reasonably available to the petitioners supporting their allegations.

Commerce finds that the petitioners filed the Petitions on behalf of the domestic industry because the petitioners are interested parties as defined in sections 771(9)(C) and (F) of the Act. Commerce also finds that the petitioners demonstrated sufficient industry support with respect to the initiation of the requested CVD investigations.⁵

⁵ See “Determination of Industry Support for the Petition” section, infra.

Periods of Investigation

Because the Petitions were filed on April 27, 2023, the periods of investigation (POI) for India, Israel, and Korea are January 1, 2022, through December 31, 2022.⁶

⁶ See 19 CFR 351.204(b)(2).

Scope of the Investigations

The merchandise covered by these investigations is brass rod from India, Israel, and Korea. For a full description of the scope of these investigations, see the appendix to this notice.

Comments on the Scope of the Investigations

On May 2 and 10, 2023, Commerce requested information from the petitioners regarding the proposed scope to ensure that the scope language in the Petitions is an accurate reflection of the products for which the domestic industry is seeking relief.⁷ On May 8 and 11, 2023, the petitioners revised the scope language.⁸ The description of merchandise covered by these investigations, as described in the appendix to this notice, reflects these clarifications.

⁷ See General Issues Supplemental Questionnaire at 3-4; see also Second General Issues Supplemental Questionnaire at 1.

⁸ See General Issues Supplement; see also Scope Supplement.

As discussed in the Preamble to Commerce's regulations, we are setting aside a period for interested parties to raise issues regarding product coverage (i.e., scope).⁹ Commerce will consider all comments received from interested parties and, if necessary, will consult with interested parties prior to the issuance of the preliminary determination. If scope comments include factual information, all such factual information should be limited to public information.¹⁰ To facilitate preparation of its questionnaires, Commerce requests that all interested parties submit such comments by 5:00 p.m. Eastern Time (ET) on June 6, 2023, which is 20 calendar days from the signature date of this notice. Any rebuttal comments, which may include factual information, must be filed by 5:00 p.m. ET on June 16, 2023, which is 10 calendar days from the initial comment deadline.

⁹ See Antidumping Duties; Countervailing Duties, 62 FR 27296, 27323 (May 19, 1997) (Preamble).

¹⁰ See 19 CFR 351.102(b)(21) (defining “factual information”).

Commerce requests that any factual information that the parties consider relevant to the scope of the investigations be submitted during this time period. However, if a party subsequently finds that additional factual information pertaining to the scope of the investigations may be relevant, the party may contact Commerce and request permission to submit the additional information. All scope comments must also be filed simultaneously on the records of the concurrent AD and CVD investigations.

Filing Requirements

All submissions to Commerce must be filed electronically via Enforcement and Compliance's Antidumping Duty and Countervailing Duty Centralized Electronic Service System (ACCESS), unless an exception applies.¹¹ An electronically filed document must be received successfully in its entirety by the time and date it is due.

¹¹ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹² Commerce held consultations with the GOI on May 11, 2023, the GISR on May 8, 2023, and the GOK on May 10, 2023.¹³

¹² See Commerce's Letters, “Countervailing Duty Petition on Brass Rods from India: Invitation for Consultations to Discuss the Countervailing Duty Petition,” dated May 2, 2023; Countervailing Duty Petition on Brass Rod from Israel: Invitation for Consultations to Discuss the Countervailing Duty Petition,” dated April 28, 2023; and “Countervailing Duty Petition on Brass Rod from the Republic of Korea,” dated April 28, 2023.

¹³ See Memoranda, “Petition for the Imposition of Countervailing Duties on Imports of Brass Rod from the Republic of India: Teleconference Consultations with the Indian Government,” dated May 11, 2023; “Petition for the Imposition of Countervailing Duties on Imports of Brass Rod from Israel: Teleconference Consultations with the Israeli Government,” dated May 10, 2023; and “Brass Rod from the Republic of Korea: Consultations with Government of the Republic of Korea,” dated May 10, 2023.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that brass rod, as defined in the scope, constitutes a single domestic like product, and we have analyzed industry support in terms of that domestic like product.¹⁷

¹⁶ See Petition at Volume I (pages 19-20); see also General Issues Supplement at 5-7.

¹⁷ For a discussion of the domestic like product analysis as applied to these cases and information regarding industry support, see CVD Investigation Initiation Checklists, “Brass Rod from India, Israel, and the Republic of Korea,” dated concurrently with this notice (Country-Specific CVD Initiation Checklists), at Attachment II (Analysis of Industry Support for the Antidumping and Countervailing Duty Petitions Covering Brass Rod from Brazil, India, Israel, the Republic of Korea, Mexico, and South Africa).

In determining whether the petitioners have standing under section 702(c)(4)(A) of the Act, we considered the industry support data contained in the Petitions with reference to the domestic like product as defined in the “Scope of the Investigations,” in the appendix to this notice. To establish industry support, the petitioners provided their own production of brass rod in 2022 and compared this to the total 2022 production of brass rod by the U.S. industry.¹⁸ We relied on data provided by the petitioners for purposes of measuring industry support.¹⁹

¹⁸ See Petitions at Volume I (pages 4-5 and Exhibit GEN-1); see also General Issues Supplement at 5 and Exhibit SUPP1-GEN-3.

¹⁹ See Petitions at Volume I (pages 3-5 and Exhibit GEN-1); see also General Issues Supplement at 5 and Exhibit SUPP1-GEN-3. For further discussion, see Country-Specific CVD Initiation Checklists at Attachment II.

Our review of the data provided in the Petitions, the General Issues Supplement, and other information readily available to Commerce indicates that the petitioners have established industry support for the Petitions.²⁰ First, the Petitions established support from domestic producers (or workers) accounting for more than 50 percent of the total production of the domestic like product and, as such, Commerce is not required to take further action in order to evaluate industry support (e.g., polling).²¹ Second, the domestic producers (or workers) have met the statutory criteria for industry support under section 702(c)(4)(A)(i) of the Act because the domestic producers (or workers) who support the Petitions account for at least 25 percent of the total production of the domestic like product.²² Finally, the domestic producers (or workers) have met the statutory criteria for industry support under section 702(c)(4)(A)(ii) of the Act because the domestic producers (or workers) who support the Petitions account for more than 50 percent of the production of the domestic like product produced by that portion of the industry expressing support for, or opposition to, the Petitions.²³ Accordingly, Commerce determines that the Petitions were filed on behalf of the domestic industry within the meaning of section 702(b)(1) of the Act.²⁴

²⁰ See Petitions at Volume I (pages 3-5 and Exhibit GEN-1); see also General Issues Supplement at 5 and Exhibit SUPP1-GEN-3. For further discussion, see the Country-Specific CVD Initiation Checklists at Attachment II.

²¹ See Country-Specific CVD Initiation Checklists at Attachment II; see also section 702(c)(4)(D) of the Act.

²² See Country-Specific CVD Initiation Checklists at Attachment II.

²³ Id.

²⁴ Id.

Injury Test

Because India, Israel, and Korea are “Subsidies Agreement Countries” within the meaning of section 701(b) of the Act, section 701(a)(2) of the Act applies to these investigations. Accordingly, the ITC must determine whether imports of the subject merchandise from India, Israel, and/or Korea materially injure, or threaten material injury to, a U.S. industry.

Allegations and Evidence of Material Injury and Causation

The petitioners allege that imports of the subject merchandise are benefiting from countervailable subsidies and that such imports are causing, or threaten to cause, material injury to the U.S. industry producing the domestic like product. In addition, the petitioners allege that subject imports exceed the negligibility threshold provided for under section 771(24)(A) of the Act.²⁵

²⁵ See Petitions at Volume I (pages 21-22 and Exhibit GEN-5); see also General Issues Supplement at 7 and Exhibit SUPP1-GEN-4).

The petitioners contend that the industry's injured condition is illustrated by the significant volume of subject imports; reduced market share; underselling and price depression and/or suppression; lost sales and revenues; adverse impact on the domestic industry's operations, production, commercial shipments, capacity utilization, and employment variables; and adverse impact on the domestic industry's financial performance.²⁶ We assessed the allegations and supporting evidence regarding material injury, threat of material injury, causation, as well as negligibility, and we have determined that these allegations are properly supported by adequate evidence and meet the statutory requirements for initiation.²⁷ In accordance with section 771(7)(G)(ii)(IV) of the Act, which states that the ITC cannot cumulate imports “from any country that is party to an agreement with the United States establishing a free trade area, which entered into force and effect before January 1, 1987, unless the {ITC} determines that a domestic industry is materially injured or threatened with material injury by reason of imports from that country,” we considered the petitioners' allegation of injury with respect to Israel, a party to an agreement with the United States establishing a free trade area in place and effect before January 1, 1987, independently of the allegations for Brazil, India, Korea, Mexico, and South Africa and found that the information provided satisfies the requirements for initiation.²⁸

²⁶ See Petitions at Volume I (pages 1-2, 21-41, and Exhibits GEN-5 through GEN-25); see also General Issues Supplement at 7-8 and Exhibits SUPP1-GEN-4 and SUPP1-GEN-5.

²⁷ See Country-Specific CVD Initiation Checklists at Attachment III (Analysis of Allegations and Evidence of Material Injury and Causation for the Antidumping and Countervailing Duty Petitions Covering Brass Rod from Brazil, India, Israel, the Republic of Korea, Mexico, and South Africa).

²⁸ See Country-Specific CVD Initiation Checklists at Attachment III; see also section 771(7)(G)(ii)(IV) of the Act; and Statement of Administrative Action Accompanying the Uruguay Rounds Agreement Act, H.R. Doc. 103-216, Vol. 1 (1994), at 850 (“Imports from Israel may not be cumulated with imports from other countries unless the {ITC} first determines that the domestic industry is materially injured by reason of such imports from Israel.”).

Initiation of CVD Investigations

Based upon the examination of the Petitions and supplemental responses, we find that they meet the requirements of section 702 of the Act. Therefore, we are initiating CVD investigations to determine whether imports of brass rod from India, Israel, and Korea benefit from countervailable subsidies conferred by the GOI, GISR, and GOK, respectively. In accordance with section 703(b)(1) of the Act and 19 CFR 351.205(b)(1), unless postponed, we will make our preliminary determinations no later than 65 days after the date of these initiations.

India

Based on our review of the Petitions, we find that there is sufficient information to initiate a CVD investigation on 13 of the 14 programs alleged by the petitioners. For a full discussion of the basis for our decision to initiate an investigation of each program, see the India CVD Initiation Checklist. A public version of the initiation checklist for these investigations is available on ACCESS.

Israel

Based on our review of the Petitions, we find that there is sufficient information to initiate a CVD investigation on seven of the eight programs alleged by the petitioners. For a full discussion of the basis for our decision to initiate an investigation of each program, see the Israel CVD Initiation Checklist. A public version of the initiation checklist for these investigations is available on ACCESS.

Korea

Based on our review of the Petitions, we find that there is sufficient information to initiate a CVD investigation on 36 of the 37 programs alleged by the petitioners. For a full discussion of the basis for our decision to initiate an investigation an investigation of each program, see the Korea Initiation Checklist. A public version of the initiation checklist for these investigations is available on ACCESS.

Respondent Selection

The petitioners named one company in India, one company in Israel, and two companies in Korea as producers and/or exporters of brass rod.²⁹ Commerce intends to follow its standard practice in CVD investigations and calculate company-specific subsidy rates in these investigations. In the event that Commerce determines that the number of companies is large and it cannot individually examine each company based upon Commerce's resources, where appropriate, Commerce intends to select mandatory respondents based on U.S. Customs and Border Protection (CBP) data for U.S. imports of brass rod from India and Korea during the POI under the appropriate Harmonized Tariff Schedule of the United States subheadings listed in the “Scope of the Investigation” in the appendix.

²⁹ See Petitions at Volume I (pages 15 through 17 and Exhibit I-3).

Between May 15 and 16, 2023, Commerce released CBP data on U.S. imports of brass rod from India, Israel, and Korea under administrative protective order (APO) to all parties with access to information protected by APO and indicated that interested parties wishing to comment on the CBP data and/or respondent selection must do so within three business days after the publication date of the notice of initiation of these investigations.³⁰ Comments must be filed electronically using ACCESS. An electronically-filed document must be received successfully in its entirety via ACCESS by 5:00 p.m. ET on the specified deadline. Commerce will not accept rebuttal comments regarding the CBP data or respondent selection.

³⁰ See Memoranda, “Countervailing Duty Petition on Brass Rod from the Republic of Korea: Release of Data from U.S. Customs and Border Protection,” dated May 15, 2023; “Countervailing Duty Petition on Brass Rods from India: Release of Data from U.S. Customs and Border Protection,” dated May 15, 2023; and “Countervailing Duty Petition on Brass Rod from Israel: Release of Data from U.S. Customs and Border Protection,” dated May 16, 2023.

Distribution of Copies of the Petitions

In accordance with section 702(b)(4)(A) of the Act and 19 CFR 351.202(f), a copy of the public version of the Petitions has been provided to the GOI, GISR, and GOK via ACCESS. To the extent practicable, we will attempt to provide a copy of the public version of the Petitions to each exporter named in the CVD Petitions, as provided under 19 CFR 351.203(c)(2).

ITC Notification

Commerce will notify the ITC of its initiation, as required by section 702(d) of the Act.

Preliminary Determinations by the ITC

The ITC will preliminarily determine, within 45 days after the date on which the Petitions were filed, whether there is a reasonable indication that imports of brass rod from India, Israel, and/or Korea are materially injuring, or threatening material injury to, a U.S. industry.³¹ A negative ITC determination for any country will result in an investigation being terminated with respect to that country.³² Otherwise, these CVD investigations will proceed according to statutory and regulatory time limits.

³¹ See section 703(a)(1) of the Act.

³² Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³³ and, if the information is submitted to rebut, clarify, or correct factual information already on the record, to provide an explanation identifying the information already on the record that the factual information seeks to rebut, clarify, or correct.³⁴ Time limits for the submission of factual information are addressed in 19 CFR 351.301, which provides specific time limits based on the type of factual information being submitted. Interested parties should review the regulations prior to submitting factual information in these investigations.

³³ See 19 CFR 351.301(b).

³⁴ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, standalone submission; under limited circumstances, Commerce will grant untimely filed requests for the extension of time limits, where we determine, based on 19 CFR 351.302, that extraordinary circumstances exist. Parties should review Commerce's regulations concerning the extension of time limits and the Time Limits Final Rule prior to submitting factual information in these investigations.³⁵

³⁵ See 19 CFR 351.302; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.³⁶ Parties must use the certification formats provided in 19 CFR 351.303(g).³⁷ Commerce intends to reject factual submissions if the submitting party does not comply with the applicable certification requirements.

³⁶ See section 782(b) of the Act.

³⁷ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance).

This notice is issued and published pursuant to sections 702 and 777(i) of the Act, and 19 CFR 351.203(c).

Dated: May 17, 2023.
Lisa W. Wang,
Assistant Secretary for Enforcement and Compliance.

Appendix

Scope of the Investigations

The products covered by these investigations are brass rod and bar (brass rod), which is defined as leaded, low-lead, and no-lead solid brass made from alloys such as, but not limited to the following alloys classified under the Unified Numbering System (UNS) as C27450, C27451, C27460, C34500, C35000, C35300, C35330, C36000, C36300, C37000, C37700, C48500, C67300, C67600, and C69300, and their international equivalents.

The brass rod subject to these investigations has an actual cross-section or outside diameter greater than 0.25 inches but less than or equal to 12 inches. Brass rod cross-sections may be round, hexagonal, square, or octagonal shapes as well as special profiles (e.g., angles, shapes).

Standard leaded brass rod covered by the scope contains, by weight, 57.0-65.0 percent copper; 0.5-3.0 percent lead; no more than 1.3 percent iron; and at least 15 percent zinc. No-lead or low-lead brass rod covered by the scope contains by weight 59.0-76.0 percent copper; 0-1.5 percent lead; no more than 0.35 percent iron; and at least 15 percent zinc. Brass rod may also include other chemical elements (e.g., nickel, phosphorous, silicon, tin, etc.).

Brass rod may be in straight lengths or coils. Brass rod covered by these investigations may be finished or unfinished, and may or may not be heated, extruded, pickled, or cold-drawn. Brass rod may be produced in accordance with ASTM B16, ASTM B124, ASTM B981, ASTM B371, ASTM B453, ASTM B21, ASTM B138, and ASTM B927, but such conformity to an ASTM standard is not required for the merchandise to be included within the scope.

Excluded from the scope of these investigations is brass ingot, which is a casting of unwrought metal unsuitable for conversion into brass rod without remelting, that contains, by weight, at least 57.0 percent copper and 15.0 percent zinc.

The merchandise covered by these investigations is currently classifiable under subheadings 7407.21.9000, 7407.21.7000, and 7407.21.1500 of the Harmonized Tariff Schedule of the United States (HTSUS). Products subject to the scope may also enter under HTSUS subheadings 7403.21.0000, 7407.21.3000, and 7407.21.5000. The HTSUS subheadings and UNS alloy designations are provided for convenience and customs purposes. The written description of the scope of the investigations is dispositive.

[FR Doc. 2023-11005 Filed 5-23-23; 8:45 am]

BILLING CODE 3510-DS-P